DEPARTMENT OF LABOR

Employment and Training Administration

[TA-W-65,864]

Baker Furniture, Hickory, NC; Notice of Termination of Investigation

Pursuant to Section 221 of the Trade Act of 1974, as amended, an investigation was initiated on April 29, 2009, in response to a worker petition filed by workers of Baker Furniture, Hickory, North Carolina.

The petitioner has requested that the petition be withdrawn. Consequently, the investigation has been terminated.

Signed at Washington, DC, this 8th day of May 2009.
Elliott S. Kushner,
Certifying Officer, Division of Trade Adjustment Assistance.

[FR Doc. E9-13471 Filed 6-8-09; 8:45 am]

BILLING CODE 4510-FN-P